DEPARTMENT OF ENERGY

Federal Energy Regulatory Commission

Combined Notice of Filings #1 Take notice that the commission received the following accounting Request filings:

Docket Numbers: AC25-43-000.

Applicants: Michigan Electric Transmission Company LLC.

Description: Michigan Electric Transmission Company LLC submits proposed accounting entries for its acquisition of electric plant conveyed by Hillsdale Board of Public Utilities.

Filed Date: 12/30/24.

Accession Number: 20241230-5404.

Comment Date: 5 p.m. ET 1/21/25.

Take notice that the Commission received the following electric rate filings:

Docket Numbers: ER10-1290-013.

Applicants: San Diego Gas & Electric Company.

Description: Triennial Market Power Analysis for Southwest Region of San Diego Gas & Electric Company.

Filed Date: 12/31/24.

Accession Number: 20241231-5445.

Comment Date: 5 p.m. ET 3/3/25.

Docket Numbers: ER10-2302-012; ER19-2674-005.

Applicants: New Mexico PPA Corporation, Public Service Company of New Mexico.

Description: Triennial Market Power Analysis for Southwest Region of Public Service Company of New Mexico, et al.

Filed Date: 12/31/24.

Accession Number: 20241231-5449.

Comment Date: 5 p.m. ET 3/3/25.

Docket Numbers: ER10-2400-019.

Applicants: Blue Canyon Windpower LLC.

Description: Triennial Market Power Analysis for Southwest Power Pool Inc. Region of Blue Canyon Windpower LLC.

Filed Date: 12/31/24.

Accession Number: 20241231-5456.

Comment Date: 5 p.m. ET 3/3/25.

Docket Numbers: ER10-2564-014; ER10-2289-014; ER10-2600-014.

Applicants: UNS Electric, Inc., UniSource Energy Development Company, Tucson Electric Power Company.

Description: Triennial Market Power Analysis for Southwest Region of Tucson Electric Power Company, et al.

Filed Date: 12/31/24.

Accession Number: 20241231-5440.

Comment Date: 5 p.m. ET 3/3/25.

Docket Numbers: ER10-2739-038; ER10-1892-025; ER17-1494-006; ER19-170-006; ER20-660-012; ER21-1505-004; ER22-425-005; ER22-1241-004; ER22-1324-001; ER24-1366-002.

Applicants: Tumbleweed Energy, LLC, LeConte Energy Storage, LLC, REV Energy Marketing, LLC, Enerwise Global Technologies, LLC, Diablo Energy Storage, LLC, Bolt Energy Marketing, LLC, Gateway Energy Storage, LLC, Vista Energy Storage, LLC, Columbia Energy LLC, LS Power Marketing, LLC.

Description: Triennial Market Power Analysis for Southwest Region of LS Power Marketing, LLC, et al.

Filed Date: 12/31/24.

Accession Number: 20241231-5454.

Comment Date: 5 p.m. ET 3/3/25.

Docket Numbers: ER15-1873-020.

Applicants: Buckeye Wind Energy LLC.

Description: Triennial Market Power Analysis for Southwest Power Pool Inc. Region of Buckeye Wind Energy LLC.

Filed Date: 12/31/24.

Accession Number: 20241231-5459.

Comment Date: 5 p.m. ET 3/3/25.

Docket Numbers: ER16-1720-031; ER21-2137-014.

Applicants: IR Energy Management LLC, Invenergy Energy Management LLC.

Description: Triennial Market Power Analysis for Southwest Power Pool Inc. Region of Invenergy Energy Management LLC, et al.

Filed Date: 12/31/24.

Accession Number: 20241231-5457.

Comment Date: 5 p.m. ET 3/3/25.

Docket Numbers: ER20-681-011.

Applicants: Tri-State Generation and Transmission Association, Inc.

Description: Triennial Market Power Analysis for Southwest Region of Tri-State Generation and Transmission Association, Inc.

Filed Date: 12/31/24.

Accession Number: 20241231-5447.

Comment Date: 5 p.m. ET 3/3/25.

Docket Numbers: ER20-1790-003; ER11-4498-015; ER11-4499-015; ER11-4501-017; ER12-979-016; ER12-2448-016; ER13-2409-011; ER14-2858-010; ER15-2615-006; ER15-2620-006; ER16-2293-007; ER16-2577-006; ER16-2653-007; ER16-2687-005; ER17-790-004; ER17-2457-006; ER17-2470-006; ER18-27-005; ER18-2312-005; ER18-2330-004; ER20-2134-003; ER21-2597-003; ER22-2481-002; ER22-2482-001.

Applicants: 25 Mile Creek Windfarm LLC, Seven Cowboy Wind Project, LLC, Rockhaven Wind Project, LLC, Cimarron Bend Wind Project III, LLC, Enel Green Power Rattlesnake Creek Wind Project, LLC, Enel Green Power Diamond Vista Wind Project, LLC, Thunder Ranch Wind Project, LLC, Red Dirt Wind Project, LLC, Rock Creek Wind Project, LLC, Cimarron Bend Wind Project II, LLC, Chisholm View Wind Project II, LLC, Cimarron Bend Wind Project I, LLC, Lindahl Wind Project, LLC, Drift Sand Wind Project, LLC, Little Elk Wind Project, LLC, Goodwell Wind Project, LLC, Origin Wind Energy, LLC, Buffalo Dunes Wind Project, LLC, Chisholm View Wind Project, LLC, Rocky Ridge Wind Project, LLC, Caney River Wind Project, LLC, Smoky Hills Wind Project II, LLC, Smoky Hills Wind Farm, LLC, Aurora Wind Project, LLC.

Description: Triennial Market Power Analysis for Southwest Region of Aurora Wind Project, LLC, et al.

Filed Date: 12/31/24.

Accession Number: 20241231-5443.

Comment Date: 5 p.m. ET 3/3/25.

Docket Numbers: ER21-9-009; ER21-86-009; ER21-88-009.

Applicants: Orange County Energy Storage 3 LLC, Orange County Energy Storage 2 LLC, Henrietta D Energy Storage LLC.

Description: Triennial Market Power Analysis for Southwest Region of Henrietta D Energy Storage LLC, et al. under ER21-9, et al.

Filed Date: 12/31/24.

Accession Number: 20241231-5452.

Comment Date: 5 p.m. ET 3/3/25.

Docket Numbers: ER21-136-007.

Applicants: Flat Ridge 3 Wind Energy, LLC.

Description: Triennial Market Power Analysis for Southwest Power Pool Inc. Region of Flat Ridge 3 Wind Energy, LLC.

Filed Date: 12/31/24.

Accession Number: 20241231-5461.

Comment Date: 5 p.m. ET 3/3/25.

Docket Numbers: ER21-1755-012; ER23-1642-009; ER24-280-002; ER14-2500-020.

Applicants: Newark Energy Center, LLC, Hartree-Meadowlands Newark, LLC, Stored Solar J&WE, LLC, Hartree Partners, LP.

Description: Triennial Market Power Analysis for Southwest Power Pool Inc. Region of Hartree Partners, LP, et al.

Filed Date: 12/31/24.

Accession Number: 20241231-5444.

Comment Date: 5 p.m. ET 3/3/25.

Docket Numbers: ER25-61-001.

Applicants: Florida Power & Light Company.

Description: Tariff Amendment: Response to Deficiency Letter ER25-61 to be effective 1/1/2022.

Filed Date: 1/2/25.

Accession Number: 20250102-5224.

Comment Date: 5 p.m. ET 1/23/25.

Docket Numbers: ER25-62-001.

Applicants: Florida Power & Light Company.

Description: Tariff Amendment: Response to Deficiency Letter ER25-62 to be effective 1/1/2022.

Filed Date: 1/2/25.

Accession Number: 20250102-5222.

Comment Date: 5 p.m. ET 1/23/25.

Docket Numbers: ER25-573-001

Applicants: PacifiCorp

Description: Tariff Amendment: Request for Modification of Requested Effective Date to be effective 5/16/2025.

Filed Date: 1/2/25.

Accession Number: 20250102-5186.

Comment Date: 5 p.m. ET 2/18/25.

Docket Numbers: ER25-841-000.

Applicants: New England Power Pool Participants Committee.

Description: 205(d) Rate Filing: Jan 2025 Membership Filing to be effective 12/1/2024.

Filed Date: 12/31/24.

Accession Number: 20241231-5391.

Comment Date: 5 p.m. ET 1/21/25.

Docket Numbers: ER25-842-000.

Applicants: Wabash Valley Power Association, Inc.

Description: Tariff Amendment: Notice of Cancellation of Volume 1 of Formulary Rate Tariff to be effective 1/2/2025.

Filed Date: 1/2/25.

Accession Number: 20250102-5000.

Comment Date: 5 p.m. ET 1/23/25.

Docket Numbers: ER25-843-000.

Applicants: Wabash Valley Energy Marketing, Inc.

Description: Tariff Amendment: Notice of Cancellation of Volume 1 of Formulary Rate Tariff to be effective 1/2/2025.

Filed Date: 1/2/25.

Accession Number: 20250102-5007.

Comment Date: 5 p.m. ET 1/23/25.

Docket Numbers: ER25-844-000.

Applicants: PJM Interconnection, L.L.C.

Description: 205(d) Rate Filing: Original CSA Service Agreement No. 7447; Project Identifier No. AE2-045 to be effective 12/2/2024.

Filed Date: 1/2/25.

Accession Number: 20250102-5051.

Comment Date: 5 p.m. ET 1/23/25.

Docket Numbers: ER25-845-000.

Applicants: PJM Interconnection, L.L.C.

Description: 205(d) Rate Filing: Original NSA Service Agreement No. 7455; Queue Position No. AE2-226 to be effective 3/4/2025.

Filed Date: 1/2/25.

Accession Number: 20250102-5091.

Comment Date: 5 p.m. ET 1/23/25.

Docket Numbers: ER25-846-000.

Applicants: PJM Interconnection, L.L.C.

Description: 205(d) Rate Filing: Original NSA, Service Agreement No. 7470; AE1-243 to be effective 3/4/2025.

Filed Date: 1/2/25.

Accession Number: 20250102-5192.

Comment Date: 5 p.m. ET 1/23/25.

Docket Numbers: ER25-847-000

Applicants: Midcontinent Independent System Operator, Inc.

Description: 205(d) Rate Filing: 2025-01-02_Attachment Y SSR Online Application Tool to be effective 3/4/2025.

Filed Date: 1/2/25.

Accession Number: 20250102-5197

Comment Date: 5 p.m. ET 1/23/25.

Docket Numbers: ER25-848-000.

Applicants: Merced BESS, LLC.

Description: 205(d) Rate Filing: Merced BESS LLC MBR Tariff to be effective 1/10/2025.

Filed Date: 1/2/25.

Accession Number: 20250102-5225.

Comment Date: 5 p.m. ET 1/23/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: https://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: January 2, 2025.
Debbie-Anne A. Reese,
Secretary.

[FR Doc. 2025-00236 Filed 1-7-25; 8:45 am]

BILLING CODE 6717-01-P